DEPARTMENT OF THE INTERIOR

Bureau of Indian Affairs

[212A2100DD/AAKC001030/A0A501010.999900253G]

Notice of Intent To Prepare an Environmental Impact Statement for the Chuckwalla Solar Projects on the Moapa River Indian Reservation, Clark County, Nevada; Correction

AGENCY: Bureau of Indian Affairs, Interior.

ACTION: Notice of intent to prepare an environmental impact statement; correction.

SUMMARY: On April 23, 2021, the Bureau of Indian Affairs (BIA) published in the Federal Register a notice announcing that it intends to prepare an Environmental Impact Statement (EIS) that will evaluate the development of the Chuckwalla Solar Projects on Moapa River Indian Reservation tribal lands. The document contained an incorrect comment deadline.

DATES: All comments on the Chuckwalla Solar Projects EIS must be received by May 24, 2021.

ADDRESSES: Send written comments to Mr. Chip Lewis, BIA Western Regional Office, 2600 North Central Avenue, 4th Floor Mailroom, Phoenix, Arizona 85004. Comments may also be sent via email to Chip.Lewis@bia.gov or on the Projects website at www.ChuckwallaSolarProjectsEIS.com.

FOR FURTHER INFORMATION CONTACT: Chip Lewis, BIA; telephone: (602) 379-6750; email: Chip.Lewis@bia.gov. Individuals who use telecommunication devices for the deaf (TDD) may call the Federal Information Relay Service (FIRS) at 1-800-877-8339 between 8 a.m. and 8 p.m., Eastern Time, Monday through Friday.

SUPPLEMENTARY INFORMATION:

Correction

In the Federal Register of April 23, 2021, in FR Doc. 2021-08469, on page 21760, in the second column, correct the comment deadline in the DATES section of the notice to read “May 24, 2021.”

Bryan Newland,
Principal Deputy Assistant Secretary—Indian Affairs.

[FR Doc. 2021-08952 Filed 4-28-21; 8:45 am]

BILLING CODE 4337-15-P